DEPARTMENT OF COMMERCE

Foreign-Trade Zones Board

[B-66-2020]

Foreign-Trade Zone 116—Port Arthur, Texas; Application for Subzone; Port Arthur LNG, LLC; Port Arthur and Jefferson County, Texas

An application has been submitted to the Foreign-Trade Zones (FTZ) Board by the Foreign-Trade Zone of Southeast Texas, Inc., grantee of FTZ 116, requesting subzone status for the facilities of Port Arthur LNG, LLC, located in Port Arthur and Jefferson County, Texas. The application was submitted pursuant to the provisions of the Foreign-Trade Zones Act, as amended (19 U.S.C. 81a-81u), and the regulations of the FTZ Board (15 CFR part 400). It was formally docketed on November 2, 2020.

The proposed subzone would consist of the following sites: Site 1 (1,312 acres)—2904 South Gulfway Drive, Port Arthur; and, Site 2 (70.022 acres)—located near the intersection of Labelle Road and Highway 73 in Jefferson County. Production activity was authorized on June 25, 2020 (B-17-2020, 85 FR 39162-39163, June 30, 2020).

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is December 16, 2020. Rebuttal comments in response to material submitted during the foregoing period may be submitted during the subsequent 15-day period to December 31, 2020.

A copy of the application will be available for public inspection in the “Reading Room” section of the FTZ Board's website, which is accessible via www.trade.gov/ftz.

For further information, contact Camille Evans at Camille.Evans@trade.gov or (202) 482-2350.

Dated: November 2, 2020.
Andrew McGilvray,
Executive Secretary.

[FR Doc. 2020-24677 Filed 11-5-20; 8:45 am]

BILLING CODE 3510-DS-P